DEPARTMENT OF EDUCATION

Accrediting Agencies Currently Undergoing Review for the Purposes of Recognition by the U.S. Secretary of Education

AGENCY: U.S. Department of Education, Accreditation Group, Office of Postsecondary Education.

ACTION: Call for written third-party comments.

SUMMARY: This notice provides information to members of the public on submitting written comments for accrediting agencies currently undergoing review for purposes of recognition by the U.S. Secretary of Education.

FOR FURTHER INFORMATION CONTACT: Herman Bounds, Director, Accreditation Group, Office of Postsecondary Education, U.S. Department of Education, 400 Maryland Avenue SW, Room 270-01, Washington, DC 20202, telephone: (202) 453-7615, or email: herman.bounds@ed.gov.

SUPPLEMENTARY INFORMATION: This request for written third-party comments concerning the performance of accrediting agencies under review by the Secretary of Education is required by § 496(n)(1)(A) of the Higher Education Act (HEA) of 1965, as amended, and pertains to the winter 2023 meeting of the National Advisory Committee on Institutional Quality and Integrity (NACIQI). The meeting date and location have not been determined but will be announced in a later Federal Register notice. In addition, a later Federal Register notice will describe how to register to provide oral comments at the meeting.

Agencies Under Review and Evaluation: The Department requests written comments from the public on the following accrediting agencies, which are currently undergoing review and evaluation by the Accreditation Group, and which will be reviewed at the winter 2023 NACIQI meeting.

The agencies are listed by the type of application each agency has submitted. Please note, each agency's current scope of recognition is indicated below. If any agency requests a change to its scope of recognition, identified are both the current scope of recognition and the requested scope of recognition.

Applications for Renewal of Recognition:

1. Accreditation Commission for Education in Nursing, Inc. Scope of recognition: Accreditation of nursing education programs and schools, both postsecondary and higher degree, which offer a certificate, diploma, or a recognized professional degree, including clinical doctorate, masters, baccalaureate, associate, diploma, and practical nursing programs in the United States and its territories, including those offered via distance education.

2. Accreditation Commission for Midwifery Education. Scope of recognition: The accreditation and preaccreditation of basic certificate, basic graduate nurse-midwifery, direct entry midwifery, and pre-certification nurse-midwifery education programs, including those programs that offer distance education.

3. American Physical Therapy Association, Commission on Accreditation in Physical Therapy Education. Scope of recognition: The accreditation and preaccreditation (“Candidate for Accreditation”) in the United States of physical therapist education programs leading to the first professional degree at the master's or doctoral level and physical therapist assistant education programs at the associate degree level and for its accreditation of such programs offered via distance education.

4. Higher Learning Commission. Scope of recognition: The accreditation and preaccreditation (“Candidate for Accreditation”) of degree-granting institutions of higher education in the United States, including the tribal institutions, and the accreditation of programs offered via distance education and correspondence education within these institutions. This recognition extends to the Institutional Actions Council jointly with the Board of Trustees of the Commission for decisions on cases for continued accreditation or reaffirmation, and continued candidacy, and to the Appeals Body jointly with the Board of Trustees of the Commission for decisions related to initial candidacy or accreditation or reaffirmation of accreditation.

5. Middle States Commission on Higher Education. Scope of recognition: The accreditation and preaccreditation (“Candidacy status”) of institutions of higher education in Delaware, the District of Columbia, Maryland, New Jersey, New York, Pennsylvania, Puerto Rico, and the U.S. Virgin Islands, and any other geographic areas in which the Commission elects to conduct accrediting activities within the United States including distance and correspondence education programs offered at those institutions.

6. New England Commission of Higher Education. Scope of recognition: The accreditation and preaccreditation (“Candidacy status”) of institutions of higher education in Connecticut, Maine, Massachusetts, New Hampshire, Rhode Island, and Vermont that award bachelor's master's and/or doctoral degrees and associate degree-granting institutions in those states that include degrees in liberal arts or general studies among their offerings, including the accreditation of programs offered via distance education within these institutions. Jointly with the Commission, this recognition extends to its Executive Committee and also to the Appeals Body for decisions related to the appeal of denial or withdrawal of candidacy; probation; and denial or withdrawal of accreditation.

7. Western Association of Schools and Colleges, Senior College and University Commission. Scope of recognition: The accreditation and preaccreditation (“Candidate for Accreditation”) of institutions of higher education in the United States that offer the baccalaureate degree or above, including distance education programs offered at those institutions.

Compliance Reports:

1. New York State Board of Regents, State Education Department, Office of the Professions (Nursing Education). The compliance report relates to findings of noncompliance with the Department's criteria for recognition of state agencies for approval of nurse education, set forth in a Federal Register notice published on January 16, 1969. 34 FR 587, 644-645 (January 16, 1969). The senior Department official's (SDO) decision letter, dated October 28, 2020, is available under NACIQI meeting date 07/29/2020 at https://surveys.ope.ed.gov/erecognition/PublicDocuments.

2. Maryland Board of Nursing. The compliance report relates to findings of noncompliance with the Department's criteria for recognition of state agencies for approval of nurse education, set forth in a Federal Register notice published on January 16, 1969. 34 FR 587, 644-645 (January 16, 1969). The Acting Secretary's Order, dated January 19, 2021, is available under NACIQI meeting date 02/27/2020 at https://surveys.ope.ed.gov/erecognition/PublicDocuments.

Submission of Written Comments Regarding a Specific Accrediting Agency Under Review: Written comments about the recognition of any of the accrediting agencies listed above must be received by January 20, 2022, in the ThirdPartyComments@ed.gov mailbox. Please include in the subject line “Written Comments: (agency name).” The electronic mail (email) must include the name(s), title, organization/affiliation, mailing address, email address, and telephone number of the person(s) making the comment. Comments should be submitted as a Microsoft Word document or in a medium compatible with Microsoft Word (not a PDF file) that is attached to an email or provided in the body of an email message.

Comments about an agency that has submitted a compliance report scheduled for review by the Department must relate to the criteria for recognition cited in the senior Department official's letter that requested the report, or in the Secretary's appeal decision, if any. Comments about an agency that has submitted a petition for initial recognition, renewal of recognition, or an expansion of scope must relate to the agency's compliance with the Criteria for Recognition of Accrediting Agencies, which are available at https://www.ecfr.gov/current/title-34/subtitle-B/chapter-VI/part-602?toc=1.

Only written materials submitted by the deadline to the email address listed in this notice, and in accordance with these instructions, become part of the official record concerning agencies scheduled for review and are considered by the Department and NACIQI in their deliberations.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1099b

Annmarie Weisman,
Deputy Assistant Secretary for Policy, Planning and Innovation, Office of Postsecondary Education.

[FR Doc. 2021-27095 Filed 12-14-21; 8:45 am]

BILLING CODE P